DEPARTMENT OF HOUSING AND URBAN DEVELOPMENT

[Docket No. FR-4920-N-01]

Multifamily Inventory of Units for the Elderly and Persons With Disabilities

AGENCY: Office of the Assistant Secretary for Housing-Federal Housing Commissioner, HUD.

ACTION: Notice.

SUMMARY: This notice announces HUD's “Multifamily Inventory of Units for the Elderly and Persons with Disabilities” (Inventory). The Inventory is designed to assist prospective applicants with locating units in certain projects with FHA insured financing and HUD subsidized multifamily properties that serve the elderly or persons with disabilities. HUD will update the Inventory on an annual basis to reflect changes in property status and to reflect new projects available for occupancy.

FOR FURTHER INFORMATION CONTACT: Kimberly Munson, Office of Asset Management, Policy and Participation Standards Division, Department of Housing and Urban Development, 451 Seventh Street, SW., Washington, DC 20410-8000; telephone number (202) 708-1320 (this telephone number is not toll-free). Individuals with speech or hearing impairments may access this number through TTY by calling the toll-free Federal Information Relay Service at 1-800-877-8339.

SUPPLEMENTARY INFORMATION: Title VI, subtitle D of the Housing and Community Development Act of 1992 (42 U.S.C. 13611) (Title VI-D) authorizes owners of certain section 8 subsidized projects and other federally assisted projects to elect preferences or to continue occupancy restrictions for the elderly. Although owners are not required to notify HUD of elections under Title VI-D, HUD reserves the right at any time to verify the accuracy of an owner's preferences or restrictions.

The House Appropriations Committee in its Committee Report on Fiscal Year 2000 appropriations for HUD, directed HUD to “establish, maintain, and publish annually, an inventory of all housing that is designated in whole or in part for occupancy by elderly families, disabled families, or both. The inventory shall include, but not be limited to, the number of apartments in buildings designated for occupancy only by disabled families, and the number of apartments in buildings with special features designed to accommodate disabled persons.” The Committee also directed HUD to work with the Committee in developing this inventory.

Accordingly, today's notice announces HUD's Multifamily Inventory of Units for the Elderly and Persons with Disabilities (Inventory). As noted above, the Inventory is designed to assist prospective applicants with locating units in certain projects with FHA insured financing and HUD subsidized multifamily properties that serve the elderly or persons with disabilities. The Inventory will be updated annually to reflect changes in property status and to add new projects available for occupancy.

This notice further advises of the availability of the Inventory on the Web, which can be accessed at http://www.hud.gov/offices/hsg/mfh/hto/inventorysurvey.cfm.

Dated: March 25, 2004.
John C. Weicher,
Assistant Secretary for Housing-Federal Housing Commissioner.

[FR Doc. 04-7505 Filed 4-1-04; 8:45 am]

BILLING CODE 4920-01-P